DEPARTMENT OF HOMELAND SECURITY

Federal Emergency Management Agency

[Docket ID FEMA-2012-0003; Internal Agency Docket No. FEMA-B-1255]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before August 23, 2012.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1255, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at www.fema.gov/pdf/media/factsheets/2010/srp_fs.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community map repository address
Hardee County, Florida, and Incorporated Areas
Maps Available for Inspection Online at: http://www.bakeraecom.com/index.php/florida/hardee/
City of Bowling Green | City Hall, 107 West Main Street, Bowling Green, FL 33834.
City of Wauchula | City Hall, 225 East Main Street, Wauchula, FL 33873.
Town of Zolfo Springs | Town Hall, 3210 U.S. Route 17 South, Zolfo Springs, FL 33890.
Unincorporated Areas of Hardee County | Hardee County Courthouse Annex, 412 West Orange Street, Room 103, Wauchula, FL 33873.
Charles County, Maryland, and Incorporated Areas
Maps Available for Inspection Online at: http://www.rampp-team.com/md.htm
Town of Indian Head | Town Hall, 4195 Indian Head Highway, Indian Head, MD 20640.
Town of La Plata | Town Hall, 305 Queen Anne Street, La Plata, MD 20646.
Unincorporated Areas of Charles County | Charles County Government Building, 200 Baltimore Street, La Plata, MD 20646.
Village of Port Tobacco | Village Hall, 8440 Commerce Street, Port Tobacco Village, MD 20677.
Oneida County, New York (All Jurisdictions)
Maps Available for Inspection Online at: http://rampp-team.com/ny.htm
City of Rome | City Hall, 198 North Washington Street, Rome, NY 13440.
City of Sherrill | City Hall, 377 Sherrill Road, Sherrill, NY 13461.
City of Utica | City Hall, 1 Kennedy Plaza, Utica, NY 13502.
Town of Annsville | Annsville Code Enforcement Office, 9042 Meadows Road, Taberg, NY 13471.
Town of Augusta | Augusta Town Hall Offices, 185 North Main Street, Oriskany Falls, NY 13425.
Town of Ava | Town Hall, 11468 State Route 26, Ava, NY 13303.
Town of Boonville | Town Hall, 13149 State Route 12, Boonville, NY 13309.
Town of Bridgewater | Town Hall, 404 State Route 8, Bridgewater, NY 13313.
Town of Camden | Town Hall, 47 2nd Street, Camden, NY 13316.
Town of Deerfield | Town Clerk's Office, 6329 Walker Road, Deerfield, NY 13502.
Town of Florence | Florence Town Hall, 11897 Thompson Corners Florence Road, Camden, NY 13316.
Town of Floyd | Floyd Town Hall, 8299 Old Floyd Road, Rome, NY 13440.
Town of Forestport | Town Hall, 12012 Woodhull Road, Forestport, NY 13338.
Town of Kirkland | Kirkland Town Hall, 3699 State Route 12B, Clinton, NY 13323.
Town of Lee | Lee Town Hall, 5808 Stokes Lee Center Road, Lee Center, NY 13363.
Town of Marcy | Municipal Offices, 8801 Paul Becker Road, Marcy, NY 13403.
Town of Marshall | Marshall Town Hall, 2651 State Route 12B, Deansboro, NY 13328.
Town of New Hartford | Codes and Zoning Office, 111 New Hartford Street, New Hartford, NY 13413.
Town of Paris | Paris Town Hall, 2580 Sulphur Springs Road, Sauquoit, NY 13456.
Town of Remsen | Town Hall, 10540 Academy Lane, Remsen, NY 13438.
Town of Sangerfield | Town Hall, 1084 State Route 12, Sangerfield, NY 13455.
Town of Steuben | Steuben Town Clerk's Office, 9458 Soule Road, Remsen, NY 13438.
Town of Trenton | Trenton Town Clerk's Office, 8520 Old Poland Road, Barneveld, NY 13304.
Town of Vernon | Town Offices, 4305 Peterboro Road, Vernon, NY 13476.
Town of Verona | Verona Town Office Building, 6600 Germany Road, Durhamville, NY 13054.
Town of Vienna | Vienna Town Hall, 2083 State Route 49, North Bay, NY 13123.
Town of Western | Western Town Hall, 9219 Main Street, Westernville, NY 13486.
Town of Westmoreland | Town Hall, 100 Station Road, Westmoreland, NY 13490.
Town of Whitestown | Whitestown Town Hall, 8539 Clark Mills Road, Whitesboro, NY 13492.
Village of Barneveld | Village Hall, Trenton Municipal Center, 8520 Old Poland Road, Barneveld, NY 13304.
Village of Boonville | Village Hall, 13149 State Route 12, Boonville, NY 13309.
Village of Bridgewater | Village Hall, 7509 State Route 20, Bridgewater, NY 13313.
Village of Camden | Village Hall, 14 Church Street, Camden, NY 13316.
Village of Clayville | Village Office, 2505 Foundry Place, Clayville, NY 13322.
Village of Clinton | Village Hall, Lumbard Hall, 100 North Park Row, Clinton, NY 13323.
Village of Holland Patent | Village Office, 9544 Depot Street, Holland Patent, NY 13354.
Village of New Hartford | Village Codes Department, Butler Hall, 48 Genesee Street, New Hartford, NY 13413.
Village of New York Mills | Village Clerk's Office, 1 Maple Street, New York Mills, NY 13417.
Village of Oneida Castle | Village Hall, 1 1st Street, Oneida Castle, NY 13421.
Village of Oriskany | Village Office, 708 Utica Street, Oriskany, NY 13424.
Village of Oriskany Falls | Village Hall, 185 North Main Street, Oriskany Falls, NY 13425.
Village of Prospect | Village Hall, 116 Upper State Street, Prospect, NY 13435.
Village of Remsen | Village Office, 10606 Pine Street, Remsen, NY 13438.
Village of Sylvan Beach | Village Hall, 808 Marina Drive, Sylvan Beach, NY 13157.
Village of Vernon | Village Hall, 8 Ruth Street, Vernon, NY 13476.
Village of Waterville | Village Hall, 122 Barton Avenue, Waterville, NY 13480.
Village of Whitesboro | Municipal Office, 10 Moseley Street, Whitesboro, NY 13492.
Village of Yorkville | Village Hall, 30 6th Street, Yorkville, NY 13495.
Newport County, Rhode Island (All Jurisdictions)
Maps Available for Inspection Online at: http://www.starr-team.com/starr/RegionalWorkspaces/RegionI/NewportCountyRIcoastal/Preliminary%20Maps/Forms/AllItems.aspx
City of Newport | Planning, Zoning and Inspections Department, City Hall, 3rd Floor, 43 Broadway, Newport, RI 02840.
Town of Jamestown | Town Hall, 93 Narragansett Avenue, Jamestown, RI 02835.
Town of Little Compton | Town Hall, 40 Commons, Little Compton, RI 02837.
Town of Middletown | Town Hall, 350 East Main Road, Middletown, RI 02842.
Town of Portsmouth | Building Inspection Department, Town Hall, 2nd Floor, 2200 East Main Road, Portsmouth, RI 02871.
Town of Tiverton | Town Hall, 343 Highland Road, Tiverton, RI 02878.
Washington County, Rhode Island (All Jurisdictions)
Maps Available for Inspection Online at: http://www.starr-team.com/starr/RegionalWorkspaces/RegionI/WashingtonCountyRIcoastal/SitePages/Home.aspx
Town of Charlestown | Town Hall, Planning Office, 4540 South County Trail, Charlestown, RI 02813.
Town of Narragansett | Town Hall, Engineering Department, 25 5th Avenue, Narragansett, RI 02882.
Town of New Shoreham | New Shoreham Town Hall, 16 Old Town Road, Block Island, RI 02807.
Town of North Kingstown | Department of Public Works and Engineering, 2050 Davisville Road, North Kingstown, RI 02852.
Town of South Kingstown | Town Hall, 180 High Street, Wakefield, RI 02879.
Town of Westerly | Town Hall, 45 Broad Street, Westerly, RI 02891.
Knox County, Tennessee, and Incorporated Areas
Maps Available for Inspection Online at: http://www.bakeraecom.com/index.php/tennessee/knox-2/
City of Knoxville | City of Knoxville Engineering Division, City County Building, 400 Main Street, Room 480, Knoxville, TN 37902.
Town of Farragut | Town Hall, Engineering Department, 11408 Municipal Center Drive, Farragut, TN 37934.
Unincorporated Areas of Knox County | Knox County Engineering and Public Works Department, 205 West Baxter Avenue, Knoxville, TN 37917.
Leon County, Texas, and Incorporated Areas
Maps Available for Inspection Online at: http://www.riskmap6.com
City of Buffalo | City Hall, 144 Avant Street, Buffalo, TX 75831.
City of Centerville | City Hall, 325 East St. Marys, Centerville, TX 75833.
City of Jewett | City Hall, 114 North Broadway, Jewett, TX 75846.
City of Marquez | City Hall, 320 South Austin Street, Marquez, TX 77865.
City of Normangee | City Hall, 107 Main Street, Normangee, TX 77871.
Town of Leona | Town Hall, 169 Highway 977 East, Leona, TX 75850.
Town of Oakwood | Town Hall, 135 East Broad Street, Oakwood, TX 75855.
Unincorporated Areas of Leon County | Leon County Judge's Office, 130 East St. Marys, Centerville, TX 75833.

(Catalog of Federal Domestic Assistance No. 97.022, “Flood Insurance.”)

Dated: May 14, 2012.
Sandra K. Knight,
Deputy Associate Administrator for Mitigation, Department of Homeland Security, Federal Emergency Management Agency.

[FR Doc. 2012-12715 Filed 5-24-12; 8:45 am]

BILLING CODE 9110-12-P